DEPARTMENT OF THE INTERIOR

National Park Service

[NPS-WASO-NAGPRA-NPS0031199; PPWOCRADN0-PCU00RP14.R50000]

Notice of Intent To Repatriate Cultural Items: Cleveland Museum of Natural History, Cleveland, OH

AGENCY: National Park Service, Interior.

ACTION: Notice.

SUMMARY: The Cleveland Museum of Natural History (CMNH), in consultation with the appropriate Native Hawaiian organizations, has determined that the cultural items listed in this notice meet the definitions of unassociated funerary objects and sacred objects and has determined that there is a cultural affiliation between the objects and a present-day Native Hawaiian organization. Lineal descendants or representatives of any Native Hawaiian organization not identified in this notice that wish to claim these cultural items should submit a written request to the CMNH. If no additional claimants come forward, transfer of control of the cultural items to the Native Hawaiian organization stated in this notice may proceed.

DATES: Lineal descendants or representatives of any Native Hawaiian organization not identified in this notice that wish to submit a claim for these cultural items should submit a written request with information in support of the claim to the CMNH at the address in this notice by January 4, 2021.

ADDRESSES: Dr. Brian Redmond, Cleveland Museum of Natural History, 1 Wade Oval Drive, Cleveland, OH 44106, telephone (216) 231-4600 Ext. 3301, email bredmond@cmnh.org or Amanda McGee, telephone (216) 231-4600 Ext. 3275, email amcgee@cmnh.org.

SUPPLEMENTARY INFORMATION: Notice is here given in accordance with the Native American Graves Protection and Repatriation Act (NAGPRA), 25 U.S.C. 3005, of the intent to repatriate cultural items under the control of the Cleveland Museum of Natural History, Cleveland, OH, that meet the definition of unassociated funerary objects and sacred objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

Consultation

A detailed assessment of the cultural items was made by CMNH staff in consultation with representatives of the Office of Hawaiian Affairs (OHA).

History and Description of the Cultural Items

In 1935, six Hawaiian burial tapa cloths were removed from ancient Native Hawaiian corpses in burial caves on Hawai'i Island by Glenn W. Russ of the Bernice Pauahi Bishop Museum (BPBM). The exact location of the burial caves is unknown. At some time soon after the collection of the burial cloths, Russ transferred them to D' Alte Welch, who also worked at BPBM. In 1976, Welch, who became a professor at John Carroll University in Ohio, donated the burial tapas to CMNH. The accession numbers for these six items are #1976-03: CMNH #s 8460, 8464, 8470, 8476, 8480, 8482. Welch also donated to CMNH one 22-page scrapbook (CMNH #8458) containing burial tapa fragments.

In the early 20th century, one cultural item, a “Hawaiian necklace” (lei niho palaoa) made of human hair, was acquired by Mrs. H.F. Lyman. It is unknown from where in Hawaii the lei niho palaoa had been removed or the circumstances of its removal. In 1922, Mrs. Lyman donated the lei niho palaoa to CMNH (accession #7, CMNH# 1682). CMNH has determined that the lei niho palaoa is authentic and is used in traditional Native Hawaiian religious ceremonies.

Determinations Made by the Cleveland Museum of Natural History

The Cleveland Museum of Natural History have determined that:

• Pursuant to 25 U.S.C. 3001(3)(B), the one 22-page scrapbook of burial tapa fragments and the six burial tapa cloths described above are reasonably believed to have been placed with or near individual human remains at the time of death or later as part of the death rite or ceremony and are believed, by a preponderance of the evidence, to have been removed from a specific burial site of Native Hawaiian individuals.

• Pursuant to 25 U.S.C. 3001(3)(C), the one lei niho palaoa described above is a specific ceremonial object needed by traditional Native Hawaiian religious leaders for the practice of traditional Native Hawaiian religions by their present-day adherents.

• Pursuant to 25 U.S.C. 3001(2), there is a relationship of shared group identity that can be reasonably traced between the cultural objects and the Office of Hawaiian Affairs.

Additional Requestors and Disposition

Lineal descendants or representatives of any Native Hawaiian organization not identified in this notice that wish to submit a claim for these cultural items should submit a written request with information in support of the claim to Dr. Brian Redmond, Cleveland Museum of Natural History, 1 Wade Oval Drive, Cleveland, OH 44106, telephone (216) 231-4600 Ext. 3301, email bredmond@cmnh.org or Amanda McGee, telephone (216) 231-4600 Ext. 3275, email amcgee@cmnh.org, by January 4, 2021. After that date, if no additional claimants have come forward, transfer of control of the unassociated funerary objects and the sacred object to the Office of Hawaiian Affairs listed in this notice may proceed.

The Cleveland Museum of Natural History is responsible for notifying the Office of Hawaiian Affairs that this notice has been published.

Dated: November 24, 2020.
Melanie O'Brien,
Manager, National NAGPRA Program.

[FR Doc. 2020-26762 Filed 12-3-20; 8:45 am]

BILLING CODE 4312-52-P